DEPARTMENT OF COMMERCE

International Trade Administration

Upcoming 2018 International Trade Administration Aerospace Industry Trade Mission to Singapore

AGENCY: International Trade Administration, Department of Commerce.

ACTION: Notice.

SUMMARY: The United States Department of Commerce, International Trade Administration (ITA) is announcing an additional upcoming trade mission that will be recruited, organized, and implemented by ITA. The mission is:

• Aerospace Executive Service Trade Mission to the Singapore Airshow—February 5-9, 2018.

A summary of the mission is found below. Application information and more detailed mission information, including the commercial setting and sector information, can be found at the trade mission Web site: http://export.gov/trademissions.

For each mission, recruitment will be conducted in an open and public manner, including publication in the Federal Register, posting on the Commerce Department trade mission calendar (http://export.gov/trademissions) and other Internet Web sites, press releases to general and trade media, direct mail, broadcast fax, notices by industry trade associations and other multiplier groups, and publicity at industry meetings, symposia, conferences, and trade shows.

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) past, present, and prospective business activity in relation to the Mission's target market(s) and sector(s);

• The applicant's (or in the case of a trade association/organization, represented firm or service provider's) potential for business in the markets, including likelihood of exports resulting from the mission; and

• Consistency of the applicant's (or in the case of a trade association/organization, represented firm or service provider's) goals and objectives with the stated scope of the mission.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Mission List: (additional information about each mission can be found at http://export.gov/trademissions).

Aerospace Executive Service Trade Mission to the Singapore Airshow, February 5-9, 2018

Summary

The United States Department of Commerce, International Trade Administration is organizing a non-Executive led Aerospace Executive Service Trade Mission (AESTM) to Singapore in conjunction with the Singapore Airshow 2018 (http://www.singaporeairshow.com).

The AESTM will include representatives from a variety of U.S. aerospace-industry manufacturers and service providers. The mission participants will be introduced to international agents, distributors and end-users whose capabilities are targeted to each participant's needs.

Mission participants will also be briefed by key local industry leaders who can advise on local market conditions and opportunities.

The mission's goal for the AESTM at the Singapore Airshow is to enhance the presence of U.S. exporters at the show. The AESTM will enable U.S. aerospace and defense companies to familiarize themselves with this important air show, conduct market research, and explore export opportunities through pre-screened meetings with potential partners.

Schedule

Sunday, February 4, 2018

—Arrival of AESTM participants

Monday, February 5, 2018

—One-on-one business matchmaking appointments

—Networking Session with members of the Association of Aerospace Industries (Singapore)

—Briefing at the designated hotel on AESTM event logistics

—Breakfast Market Briefing for SA2016 exhibitors

Tuesday, February 6, 2018

—Singapore Airshow participation

—Attend U.S. Pavilion Ribbon Cutting Ceremony with U.S. VIP participation

Wednesday, February 7, 2018

—Singapore Airshow participation

—Show Time Business to Government Meeting Program

Thursday, February 8, 2018

—Singapore Airshow participation

—Show Time Business to Government Meeting Program

Friday, February 9, 2018

—Singapore Airshow participation

—Show Time Business to Government Meeting Program

—Program Concludes

Participation Requirements

All companies interested in participating in the AESTM at the Singapore Airshow must complete and submit an application for consideration by the Department of Commerce. All applicants will be evaluated on their ability to meet certain conditions and best satisfy the selection criteria as outlined below. A minimum of ten and a maximum of 15 companies will be selected to participate in the mission from the applicant pool. Participants may include companies that are new to or have previously participated in the AESTM. U.S. companies already doing business in Singapore or elsewhere in the Asia-Pacific region as well as U.S. companies seeking to enter those markets for the first time may apply.

Fees and Expenses

After a company has been selected to participate on the mission, a payment to the Department of Commerce in the form of a participation fee is required. The participation fee will be $2,750 for a small or medium-sized enterprise (SME) and $3,450 for large firms.* The fee for each additional firm representative (large firm or SME) is $300. Expenses for travel to and from Singapore, lodging, meals, and incidentals will be the responsibility of each mission participant.

* An SME is defined as a firm with fewer than 500 employees or that otherwise qualifies as a small business under SBA regulations (see https://www.sba.gov/contracting/getting-started-contractor/make-sure-you-meet-sba-size-standards/small-business-size-regulations#regulations). Parent companies, affiliates, and subsidiaries will be considered when determining business size. The dual pricing reflects the Commercial Service's user fee schedule that became effective April 12, 2017 (see http://trade.gov/fees/ for additional information).

Conditions for Participation

• An applicant must submit a completed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the Asia Pacific markets.

• Applicant's potential for business in Asia Pacific, including likelihood of exports resulting from the mission.

• Consistency of the applicant's goals and objectives with the stated scope of the mission.

Payment must be made by December 1, 2017, otherwise USDOC reserves the rights to exclude applicants from the AESTM program.

Referrals from political organizations and any documents containing references to partisan political activities (including political contributions) will be removed from an applicant's submission and not considered during the selection process.

Timeline for Recruitment

Mission recruitment will be conducted in an open and public manner, including publication in the Federal Register and posting on the Commerce Department trade missions calendar— http://export.gov/trademissions/—and other Internet Web sites, publication in domestic trade publications and association newsletters, mailings from internal mailing lists, faxes to internal aerospace clients, emails to aerospace distribution lists, and promotion at industry meetings, symposia, conferences, trade shows, and other events. The ITA Aerospace and Defense Technology Team members in U.S. Export Assistance Centers will have the lead in recruiting the AESTM.

Recruitment for the mission will begin immediately and conclude no later than December 1, 2017. The U.S. Department of Commerce will evaluate applications and inform applicants of selection decisions periodically during the recruitment period. All applications received subsequent to an evaluation date will be considered at the next evaluation. Applications received after December 1, 2017, will be considered only if space and scheduling constraints permit.

Contacts

Jason Sproule, Senior International Trade Specialist, U.S. Commercial Service—Los Angeles, U.S. Department of Commerce, Phone: +1-213-894-8785, Email: jason.sproule@trade.gov

Hawcheng Ng, Commercial Specialist, U.S. Embassy Singapore, U.S. Department of Commerce, Phone: +011-65-6476-9037, Email: hawcheng.ng@trade.gov

Frank Spector,
Senior Advisor for Trade Missions.

[FR Doc. 2017-19797 Filed 9-15-17; 8:45 am]

BILLING CODE 3510-DR-P